DEPARTMENT OF LABOR

Employment and Training Administration

[TA-W-81,045; TA-W-81,045A]

Dow Jones & Company, Inc., Dow Jones Content Services Division, Including On-Site Workers From Aerotek, Inc., Princeton, NJ; Generate, Inc., a Subsidiary of Dow Jones & Company, Inc., Boston, MA; Amended Certification Regarding Eligibility To Apply for Worker Adjustment Assistance

In accordance with Section 223 of the Trade Act of 1974, as amended (“Act”), 19 U.S.C. 2273, the Department of Labor issued a Certification of Eligibility to Apply for Worker Adjustment Assistance on January 26, 2011, applicable to workers of Dow Jones & Company, Inc., Dow Jones Content Services, including on-site workers from Aerotek, Inc., Princeton, New Jersey. The Department's notice of determination was published in the Federal Register on February 8, 2012 (77 FR 6590).

At the request of a company official, the Department reviewed the certification for workers of the subject firm. The workers are engaged in activities related to the production digital newsletters.

New information shows Generate, Inc., is a subsidiary of Dow Jones & Company, Inc. Generate, Inc., operated in conjunction with Dow Jones, Dow Jones Content Services and both have experienced worker layoffs.

Based on these findings, the Department is amending this certification to include workers of Generate, Inc., Boston, Massachusetts in support of Dow Jones & Company, Inc., Dow Jones Content Services, Princeton, New Jersey.

The intent of the Department's certification is to include all workers employed at Dow Jones & Company, Inc., Dow Jones Content Services, Princeton, New Jersey who were adversely affected by a shift in production of digital newsletters to Sophia, Bulgaria.

The amended notice applicable to TA-W-81,045 is hereby issued as follows:

All workers of Dow Jones & Company, Dow Jones Content Services Division, including on-site workers from Aerotek, Inc., Princeton, New Jersey (TA-W-81,045) and Generate, Inc., a subsidiary of Dow Jones & Company, Inc., Boston Massachusetts (TA-W-81,045A) who became totally or partially separated from employment on or after February 13, 2010 through January 26, 2014, and all workers in the group threatened with total or partial separation from employment on the date of certification through two years from the date of certification, are eligible to apply for adjustment assistance under Chapter 2 of Title II of the Trade Act of 1974, as amended.

Signed in Washington, DC, this 27th day of June, 2012.
Elliott S. Kushner,
Certifying Officer, Office of Trade Adjustment Assistance.

[FR Doc. 2012-17212 Filed 7-13-12; 8:45 am]

BILLING CODE 4510-FN-P